NATIONAL ARCHIVES AND RECORDS ADMINISTRATION

Information Security Oversight Office

32 CFR Part 2004

[NARA-09-0005]

RIN 3095-AB34

National Industrial Security Program Directive No. 1

AGENCY: Information Security Oversight Office, NARA.

ACTION: Proposed rule; correction.

SUMMARY: This document corrects the heading to a proposed rule published in the Federal Register of November 30, 2009, regarding the National Industrial Security Program Directive No. 1. This correction assigns a Federal Docket Management System (FDMS) number to the proposed rule for Information Security Oversight Office (ISOO) regulations and provides a new regulation identifier number (RIN).

FOR FURTHER INFORMATION CONTACT: Laura McCarthy, 301-837-3023.

SUPPLEMENTARY INFORMATION: In proposed rule FR Doc. E9-28517, beginning on page 62531 in the issue of November 30, 2009, make the following corrections in the heading of the document.

Correction

On page 62531, correct the docket number to read “[ISOO-09-0001]”and correct the RIN to read “3095-AB63”.

Dated: January 5, 2010.
Laura J. McCarthy,
Federal Register Liaison.

[FR Doc. 2010-394 Filed 1-11-10; 8:45 am]

BILLING CODE 7515-01-P